DEPARTMENT OF TRANSPORTATION

Federal Highway Administration

Notice of Intent To Prepare an Environmental Impact Statement for a Proposed Highway Project in Los Angeles County, California

AGENCY: Federal Highway Administration (FHWA), DOT.

ACTION: Notice of intent.

SUMMARY: The FHWA, on behalf of the California Department of Transportation (Caltrans), is issuing this notice to advise the public that a Draft Environmental Impact Statement (EIS) will be prepared for proposed highway improvements on Interstate 605 (I-605) and State Route 60 (SR-60). The limits of the Interstate 605 (I-605) and State Route 60 (SR-60) Improvement Project (Project) will traverse the cities of Baldwin Park, El Monte, City of Industry, Pico Rivera, South El Monte, Whittier, and unincorporated Los Angeles County. Improvements on I-605 are proposed from south of Slauson Avenue to the I-605/Interstate 10 (I-10) Interchange, and improvements on SR-60 are proposed from Santa Anita Avenue to east of Turnbull Canyon Road. A Project Study Report-Project Development Study (PSR-PDS) for the Project was approved in December 2015 (not attached).

FOR FURTHER INFORMATION CONTACT: Ronald Kosinski, Deputy District Director, Division of Environmental Planning, District 7, 100 South Main Street, Suite 100, Los Angeles, CA 90012, (213) 897-0703.

SUPPLEMENTARY INFORMATION: Effective July 1, 2007, the FHWA assigned, and Caltrans assumed, environmental responsibilities for this Project pursuant to 23 United States Code (U.S.C.) 327.

Caltrans will prepare an Environmental Impact Statement (EIS) for the proposed Project. The purpose of the Project is to reduce congestion, improve freeway operations, improve and enhance safety, and improve local and system interchange operations. The Project proposes widening along southbound and northbound I-605 and the addition of one mixed flow lane (a standard freeway lane where vehicles with any number of occupants can drive anytime) along westbound SR-60 within the Project limits. The Project will also include the addition of auxiliary lanes, where necessary (lanes used to separate entering, exiting, or weaving traffic from through traffic). Improvements to local streets and interchanges would be required as part of the Project. Interchanges that would be affected include the I-605/Slauson Avenue Interchange, I-605/Washington Boulevard Interchange, I-605/Whittier Boulevard Interchange, I-605/Beverly Boulevard Interchange, I-605/Rose Hills Road Interchange, I-605/Peck Road Interchange, I-605/SR 60 Interchange, I-605/Valley Boulevard Interchange, and SR 60/Peck Road Interchange.

The following five Project alternatives are under consideration.

Alternative 1: No Build Alternative

In this alternative, there would be no reconstruction or improvements to I-605 or SR-60. I-605 within the Project limits would continue to have four mixed flow lanes that are 11-feet wide, with 2-foot-wide median shoulders, plus one high-occupancy vehicle (HOV) lane and a 1-foot-wide HOV buffer.

Alternative 2: Standard Alternative (Lane/Shoulder Widths)

Alternative 2 would meet Caltrans' Highway Design Manual standards for travel lanes and shoulders. This alternative includes adding one mixed flow lane on southbound and northbound I-605 and widening all lanes to 12 feet, for a total of five, 12-foot-wide mixed flow lanes. The 2-foot-wide median shoulders would be widened to 10 feet, and the 1-foot-wide HOV buffer would be widened to four feet. One 12-foot-wide mixed flow lane would also be added on westbound SR-60. Right-of-Way (ROW) acquisitions would be required to accommodate the proposed improvements and to meet Caltrans' Highway Design Manual standards.

Alternative 3: Reduced Standard Alternative (Lane/Shoulder Widths)

Alternative 3 includes many of the design elements identified in Alternative 2; however, this alternative includes features that do not meet Caltrans' Highway Design Manual standards to reduce ROW acquisitions. On I-605, only two of the five mixed flow lanes would be 12-feet wide, as the remaining three lanes would be 11-feet wide. The 2-foot-wide median shoulders would be widened to 10 feet, and the 1-foot-wide HOV buffer would be widened to two feet.

Alternative 4: Hybrid Alternative

Alternative 4 includes many of the same design elements identified in Alternative 2; however, this alternative includes features that do not meet Caltrans' Highway Design Manual standards to reduce ROW acquisitions. Like Alternative 2, this alternative includes five mixed flow lanes on I-605, but only one mixed flow lane would be 12-feet wide, which is added to the outside travel lane. The remaining portion of the highway, consisting of the four 11-foot-wide mixed flow lanes, the 2-foot-wide median shoulders, and 1-foot-wide HOV buffer, would not be improved as part of this alternative.

Alternative 5: Transportation Systems Management/Transportation Demand Management (TSM/TDM)

The TSM/TDM Alternative would add transportation system and demand management techniques to existing features within the Project limits. Improvements that may be included as part of this alternative are additional ramp metering, improved signal timing, increased transit service, improved signage, development of rideshare/carpool programs, and installation of intelligent transportation systems.

Build Alternatives 2 through 4 may include may include additional design variations, which provide optional lane use (general purpose, HOV), optional on and off ramp modifications, and other operational improvements. Build alternatives proposed may be refined or be removed from further consideration, as engineering and environmental analysis is conducted for the Project.

Analysis supporting the Environmental Impact Statement (EIS) will determine the improvements necessary to meet the existing and future transportation needs in the corridor.

The following permits/approvals may be required to construct the Project:

• 33 U.S.C. 408 Section 408 Permit (United States (U.S.) Army Corps of Engineers)

• Clean Water Act (CWA) Section 404 Permit (U.S. Army Corps of Engineers)

• Section 1602 Agreement (California Department of Fish and Wildlife)

• National Pollutant Discharge Elimination System (NPDES) Permit

• Caltrans Statewide Permit and Construction General Permit

• CWA Section 401 Water Quality Certification and/or Waste Discharge Requirement (WDR) (Regional Water Quality Control Board)

• South Coast Air Quality Management District (SCAQMD) Rules 403, 1403, and 1166

• Clean Air Act, Transportation Conformity Determination (FHWA; Caltrans)

• Section 106 Compliance with National Historic Preservation Act

• Section 7 Consultation with U.S. Fish and Wildlife Service in the event that Federally-listed species are affected

• Union Pacific Railroad (UPRR) Memorandum of Agreement

• Various City Encroachment Permits

Caltrans will be holding public scoping meetings to provide an overview of the Project, summarize the environmental process, and receive input regarding the environmental issues and the suggested scope and content of the EIS. These meetings will include separate agency and public scoping. One round of three meetings will be held on November 1st through November 3rd. Please refer to the table below for meeting details:

City | Date | Time | Location
City of Industry | Tuesday, Nov. 1, 2016 | 6:30 p.m.-8:30 p.m | Public Scoping Meeting, Industry Hills Expo Center, 16200 Temple Avenue, City of Industry, CA 91744.
South El Monte | Wednesday, Nov. 2, 2016 | 6:30 p.m.-8:30 p.m | Public Scoping Meeting, South El Monte Senior Center, 1556 Central Ave., South El Monte, CA 91733.
Whittier | Thursday, Nov. 3, 2016 | 6:30 p.m.-8:30 p.m | Public Scoping Meeting, Palm Park, Palm A-B Room, 5703 Palm Ave., Whittier, CA 90601.
Whittier | Thursday, Nov. 3, 2016 | 3:00 p.m.-4:30 p.m | Agency Scoping Meeting, Palm Park, Palm A-B Room, 5703 Palm Ave., Whittier, CA 90601.

Letters describing the proposed action and soliciting comments will be sent to appropriate Federal, State, and Participating Agencies; tribal governments and local agencies and private organizations and citizens who have previously expressed or are known to have interest in this proposal. The Draft EIS is anticipated to be available for public and agency review and comment in mid-2019. Public meetings will be held in study area communities during the public and agency review and comment period. In addition, public hearings will be held for the Project. Public notice will be given for the time and place of the public meetings and hearings. The Draft EIS will be available for public and agency review and comment prior to the public hearings.

To ensure that the full range of issues related to this proposed action is addressed and all significant concerns are identified, comments and suggestions are invited from all interested parties. Comments or questions about this proposed action and the EIS should be directed to Caltrans at the address provided above. (Catalog of Federal Domestic Assistance Program Number 20.205, Highway Planning and Construction. The regulations implementing Executive Order 12372 regarding intergovernmental consultation on Federal programs and activities apply to this program.)

Issued on: October 3, 2016.
Josue M. Yambo,
Senior Transportation Engineer, Project Delivery Division, Federal Highway Administration, Sacramento, California.

[FR Doc. 2016-24480 Filed 10-7-16; 8:45 am]

BILLING CODE 4910-22-P